FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction Incudes the transaction number and the parties to the transaction. The grants were made by the Federal Trade Commission and the Assistant Attorney General for the Antitrust Division of the Department of Justice. Neither agency intends to take any action with respect to these proposed acquisitions during the applicable waiting period.

Early Terminations Granted October 1, 2012 through October 31, 2012
10/01/2012
20121210 | G | Standard Parking Corporation; KCPC Holdings, Inc.; Standard Parking Corporation.
20121392 | G | Heckmann Corporation; Mark D. Johnsrud; Heckmann Corporation.
20121393 | G | South Mississippi Electric Power Association; Batesville, Generation Holdings, LLC; South Mississippi Electric Power Association.
10/02/2012
20121389 | Y | Linden Capital Partners II LP; Beekman Investment Partners, LP; Linden Capital Partners II, LP.
20121390 | G | New Mountain Partners III (AIV-D), L.P.; Angel I. Alvarez; New Mountain Partners III (AIV-D), L.P.
10/03/2012
20121387 | G | National Oilwell Varco, Inc.; White Deer Energy L.P.; National Oilwell Varco, Inc.
20121407 | G | Arbor Investments III, L.P.; Endeavour Capital Fund IV, L.P.; Arbor Investments III, L.P.
10/05/2012
20121385 | G | Harvest Partners VI, L.P.; Sterling Investment Partners II, L.P.; Harvest Partners VI, L.P.
20121394 | G | Nidec Corporation; The Resolute Fund, L.P.; Nidec Corporation.
20121403 | G | Thoma Bravo Fund X, L.P.; Mediware Information Systems, Inc.; Thoma Bravo Fund X, L.P.
20121404 | G | John Wood Group PLC; Stone Arch Capital, LLC; John Wood Group PLC.
20121405 | G | Clipper Holdings, L.P.; Societe Generale, S.A.; Clipper Holdings, L.P.
20121406 | G | Lightspeed Venture Partners VIII, L.P.; Nutanix, Inc.; Lightspeed Venture Partners VIII, L.P.
20121410 | G | KRG Capital Fund IV. L.P.; Flexpoint Fund, L.P.; KRG Capital Fund IV. L.P.
20121412 | G | New Mountain Partners III, L.P.; Court Square Capital Partners, L.P.; New Mountain Partners III, L.P.
20121413 | G | Plains All American Pipeline, L.P.; Chesapeake Energy Corporation; Plains All American Pipeline, L.P.
20121418 | G | Rentokil-Initial plc; Western Exterminator Company; Rentokil-Initial plc.
20121421 | G | Nippon Steel Corporation; NS Bluescope Holdings USA LLC; Nippon Steel Corporation.
20121429 | G | Canada Pension Plan Investment Board; Pinafore Investment Cooperatief U.A.; Canada Pension Plan Investment Board.
20121434 | G | Blackstone Capital Partners VI L.P.; 2G Holding Company, LLC; Blackstone Capital Partners VI L.P.
20121436 | G | Blackstone Capital Partners VI, L.P.; APX Group, Inc.; Blackstone Capital Partners VI, L.P.
20121437 | G | Blackstone Capital Partners VI L.P.; V Solar Holdings, Inc.; Blackstone Capital Partners VI L.P.
20121438 | G | McKesson Corporation; MED3000 Group, Inc.; McKesson Corporation.
20121440 | G | Sterling Group Partners III, L.P.; Pinafore Investment Cooperatief U.A.; Sterling Group Partners III, L.P.
10/09/2012
20121286 | G | Danaher Corporation; Aperio Technologies, Inc.; Danaher Corporation.
20121334 | G | Snyder's-Lance, Inc. VMG Taxable, L.P.; Snyder's-Lance, Inc.
20121378 | G | Meda AB (publ); Jazz Pharmaceuticals Public Limited Company; Meda AB (publ).
20121400 | G | Danaher Corporation; IRIS International, Inc.; Danaher Corporation.
20121422 | G | Carlyle Infrastructure Partners, L.P.; The Goldman Sachs Group, Inc.; Carlyle Infrastructure Partners, L.P.
20121445 | G | Apax VIII-A L.P.; Garda World Security Corporation; Apax VIII-A L.P.
10/10/2012
20121397 | G | Third Point Ultra, Ltd.; Murphy Oil Corporation; Third Point Ultra, Ltd.
20121398 | G | Third Point Offshore Fund Ltd.; Murphy Oil Corporation; Third Point Offshore Fund Ltd.
20121399 | G | Third Point Partners Qualified L.P.; Murphy Oil Corporation; Third Point Partners Qualified L.P.
20121411 | G | American International Group, Inc.; The Hartford Financial Services Group, Inc.; American International Group, Inc.
10/11/2012
20121425 | G | ABRY Partners VII, LP; Genstar Capital Partners V, L.P.; ABRY Partners VII, LP.
20121430 | G | Aquiline Financial Services Fund II L.P.; First Investors Financial Services Group, Inc.; Aquiline Financial Services Fund II L.P.
20121432 | G | Franklin Resources, Inc.; K2 Advisors Holdings, LLC; Franklin Resources, Inc.
20130001 | G | KKR Matterhorn Investors L.P.; FR X Offshore, L.P.; KKR Matterhorn Investors L.P.
20130009 | G | Monty L. Boyd; Caterpillar, Inc.; Monty L. Boyd.
10/15/2012
20130007 | G | Ares Corporate Opportunities Fund III, L.P.; Harvest Partners V, L.P.; Ares Corporate Opportunities Fund III, L.P.
20130010 | G | Honeywell International Inc.; Thomas Russell Holdings, L.L.C.; Honeywell International Inc.
20130011 | G | ProAssurance Corporation; Medmarc Mutual Insurance Company; ProAssurance Corporation.
20130015 | G | David E. Barensfeld; Richard Rose; David E. Barensfeld.
20130031 | G | 3M Company; Ceradyne, Inc.; 3M Company.
10/16/2012
20121428 | G | G. Brint Ryan; 2003 TIL Settlement; G. Brint Ryan.
20130018 | G | Amaya Gaming Group Inc.; Oleg Boiko; Amaya Gaming Group Inc.
20130027 | G | Avista Capital Partners III, L.P.; Union Drilling, Inc.; Avista Capital Partners III, L.P.
20130032 | G | Churchill, Downs Incorporated; High River Gaming, LLC; Churchill, Downs Incorporated.
20130033 | G | Wind Point Partners VII-A, L.P.; TPG Star, L.P.; Wind Point Partners VII-A, L.P.
10/17/2012
20130002 | G | National Hospice Holdings Investors, LLC; FC-GEN Operations Investment LLC; National Hospice Holdings Investors, LLC.
20130008 | G | Compagnie Financiere Rupert; Peter Millar LLC; Compagnie Financiere Rupert.
20130016 | G | Calpine Corporation; BosPower Partners LLC; Calpine Corporation.
20130017 | G | Puget Holdings LLC; United States Power Fund II, LP; Puget Holdings LLC.
20130023 | G | Russel Metals Inc.; Apex Distribution Inc.; Russel Metals Inc.
20130028 | G | The Resolute Fund II, L.P.; Carlyle Partners V, L.P.; The Resolute Fund II, L.P.
10/19/2012
20130020 | G | Beecken Petty O'Keefe & Company Fund III, L.P.; PSS World Medical, Inc.; Beecken Petty O'Keefe & Company Fund III, L.P.
20130026 | G | Canopius Holdings Bermuda Limited; Tower Group, Inc.; Canopius Holdings Bermuda Limited.
20130030 | G | ABM Industries Incorporated; Francis A. Argenbright, Jr.; ABM Industries Incorporated.
20130034 | G | CL Acquisition Holdings Limited; Cunningham Lindsey Group Limited; CL Acquisition Holdings Limited.
20130037 | G | Precision Castparts Corp.; H.I.G. Capital Partners IV, L.P.; Precision Castparts Corp.
20130041 | G | Platinum Equity Capital Partners III, L.P.; BWAY Parent Company, Inc.; Platinum Equity Capital Partners III, L.P.
10/22/2012
20130021 | G | E.P. Hamilton Trusts, LLC; Deltak edu, Inc.; E.P. Hamilton Trusts, LLC.
20130042 | G | Edson de Godoy Bueno; UnitedHealth Group Incorporated; Edson de Godoy Bueno.
20130045 | G | Gores Capital Partners III, L.P.; Johnson & Johnson; Gores Capital Partners III, L.P.
20130053 | G | TPG Partners VI, L.P.; FPC Holdings, Inc.; TPG Partners VI, L.P.
10/23/2012
20130019 | G | Smurfit Kappa Group plc; CSI Texas Holdings Inc.; Smurfit Kappa Group plc.
20130038 | G | Thoma Bravo Fund X, L.P.; Crossbeam Systems, Inc.; Thoma Bravo Fund X, L.P.
20130047 | G | Highstar Capital IV Prism, L.P.; GWF Energy LLC; Highstar Capital IV Prism, L.P.
10/24/2012
20130056 | G | Ares Corporate Opportunities Fund III, L.P.; Apollo Investment Fund VI, L.P.; Ares Corporate Opportunities Fund III, L.P.
10/26/2012
20121090 | G | MacDonald, Dettwiler and Associates Ltd.; Loral Space & Communications Inc.; MacDonald, Dettwiler and Associates Ltd.
20130036 | G | Humana Inc.; MCCI Holdings, LLC; Humana Inc.
20130048 | G | Lee R. Anderson, Sr.; Max E. Nichols; Lee R. Anderson, Sr.
20130054 | G | Dhiraj Rajaram; Mu Sigma, Inc.; Dhiraj Rajaram.
20130055 | G | Mr. Sumner M. Redstone; GTCR Fund X/B LP; Mr. Sumner M. Redstone.
20130059 | G | Stericycle, Inc.; Paul Spiegelman; Stericycle, Inc.
20130062 | G | Sun Capital Partners V, L.P.; Comfort Co., Inc.; Sun Capital Partners V, L.P.
20130067 | G | Harbinger Group Inc.; Stanley Black & Decker, Inc.; Harbinger Group Inc.
20130071 | G | Ocwen Financial Corporation; WLR Recovery Fund IV, L.P.; Ocwen Financial Corporation.
20130072 | G | WLR Recovery Fund IV, L.P.; Ocwen Financial Corporation; WLR Recovery Fund IV, L.P.
20130074 | G | Anthony G. Petrello; Nabors Industries Ltd.; Anthony G. Petrello.
20130081 | G | Eagle Materials Inc.; Lafarge S.A.; Eagle Materials Inc.
10/31/2012
20130052 | G | Bay Bridge Capital Partners, LLC GI Partners Fund II, L.P.; Bay Bridge Capital Partners, LLC.
20130058 | G | Hamilton Infrastructure Trust; EQT Infrastructure Limited; Hamilton Infrastructure Trust.
20130075 | G | Bruce Kovner; Synta Pharmaceuticals Corp.; Bruce Kovner.
20130078 | G | Exxon Mobil Corporation; Denbury Resources Inc.; Exxon Mobil Corporation.
20130084 | G | Monomoy Capital Partners II, L.P.; Ascalon Enterprises, LLC; Monomoy Capital Partners II, L.P.

FOR FURTHER INFORMATION CONTACT:

Renee Chapman, Contact Representative,

or

Theresa Kingsberry, Legal Assistant,

Federal Trade Commission, Premerger Notification Office, Bureau Of Competition, Room H-303, Washington, DC 20580, (202) 326-3100.

By Direction of the Commission.
Donald S. Clark,
Secretary.

[FR Doc. 2012-27838 Filed 11-19-12; 8:45 am]

BILLING CODE 6750-01-M